ENVIRONMENTAL PROTECTION AGENCY

[FRL-6909-7]

Public Water Supervision Program Revision for the State of Tennessee

AGENCY: Environmental Protection Agency (EPA).

ACTION: Notice of tentative approval.

SUMMARY: Notice is hereby given that the State of Tennessee is revising its approved Public Water System Supervision Program. Tennessee has adopted drinking water regulations establishing administrative penalty authority, and which revise the definition of a Public Water System. EPA has determined that the administrative penalty authority revisions meet all minimum federal requirements, and that the Public Water System definition revisions are no less stringent than the corresponding federal regulations. Therefore, EPA intends to approve these State program revisions.

All interested parties may request a public hearing. A request for a public hearing must be submitted by December 29, 2000 to the Regional Administrator at the address shown below. Frivolous or insubstantial requests for a hearing may be denied by the Regional Administrator. However, if a substantial request for a public hearing is made by December 29, 2000, a public hearing will be held. If no timely and appropriate request for a hearing is received, and the Regional Administrator does not elect to hold a hearing on his own motion, this determination shall become final and effective on December 29, 2000. Any request for a public hearing shall include the following information: The name, address, and telephone number of the individual organization, or other entity requesting a hearing; A brief statement of the requesting person's interest in the Regional Administrator's determination and a brief statement of the information that the requesting person intends to submit at such hearing; and the signature of the individual making the request, or, if the request is made on the behalf of an organization or other entity, the signature of a responsible official of the organization or other entity.

ADDRESSES: All documents relating to this determination are available for inspection between the hours of 8:00 a.m. and 4:30 p.m., Monday through Friday, at the following offices: Tennessee Department of Environment and Conservation, Division of Water Supply, 401 Church Street, L&C Tower, Sixth Floor, Nashville, Tennessee, 37219-5404, or at the Environmental Protection Agency, Region 4, Drinking Water Section, 61 Forsyth Street Southwest, Atlanta, Georgia 30303.

FOR FURTHER INFORMATION CONTACT: Fred Hunter, EPA Region 4, Drinking Water Section at the Atlanta address given above, or by telephone at (404) 562-9477.

Authority: Actions 1401 and 1413 of the Safe Drinking Water Act, as amended (1996), and 40 CFR parts 141 and 142.

Dated: November 16, 2000.
Michael V. Peyton,
Acting Regional Administrator, Region 4.

[FR Doc. 00-30423 Filed 11-28-00; 8:45 am]

BILLING CODE 6560-50-U